DEPARTMENT OF HOUSING AND URBAN DEVELOPMENT

[Docket No. FR-5514-C-02]

Fellowship Placement Pilot Program Requests for Expressions of Interests To Administer Pilot Contact Information Correction

AGENCY: Office of the General Counsel, HUD.

ACTION: Notice.

SUMMARY: On April 13, 2011, at 71 FR 20699, HUD published a notice announcing HUD's proposal to conduct a Fellowship Placement Pilot (fellowship program). The April 13, 2011, notice had an incorrect telephone number for the contact person. This notice corrects the Contact Information section of the notice. All other information remains correct as published. The corrected Contact Information is set out below.

FOR FURTHER INFORMATION CONTACT: Kheng Mei Tan, Office of Policy Development and Research, Department of Housing and Urban Development, 451 7th Street, SW., Washington, DC 20410; telephone number 202-708-1112 (this is not a toll-free number). Persons with hearing or speech impairments may access this number through TTY by calling the toll-free Federal Information Relay Service at 800-877-8339.

Dated: April 15, 2011.
Camille E. Acevedo,
Associate General Counsel for Legislation and Regulations.

[FR Doc. 2011-9643 Filed 4-20-11; 8:45 am]

BILLING CODE 4210-67-P